INTERNATIONAL TRADE COMMISSION

[Investigations Nos. 701-TA-373 (Review) and 731-TA-770-775 (Review)]

Stainless Steel Wire Rod From Italy, Japan, Korea, Spain, Sweden, and Taiwan

AGENCY: United States International Trade Commission.

ACTION: Revised schedule for the subject reviews.

EFFECTIVE DATE: June 17, 2004.

FOR FURTHER INFORMATION CONTACT: D.J. Na (202-708-4727) or Douglas Corkran (202-205-3057), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov).

SUPPLEMENTARY INFORMATION: Effective January 28, 2004, the Commission established a schedule for the conduct of the subject full five-year reviews (69 FR 5185, February 3, 2004). On February 25, 2004, Commerce extended the date of its preliminary results with regard to the full sunset review on the countervailing duty order on stainless steel wire rod from Italy to no later than February 27, 2004, and stated its intention to issue its final results by no later than June 28, 2004 (69 FR 8627). The Commission, therefore, is revising its schedule to incorporate Commerce's final results of the full review of the countervailing duty order on stainless steel wire rod from Italy into the record of these reviews.

The Commission's new schedule for the subject reviews is as follows. On June 29, 2004, the Commission will make available to parties all information on which they have not had an opportunity to comment. Parties may submit final comments on this information on or before July 1, 2004, but such final comments must not contain new factual information and must otherwise comply with section 207.68 of the Commission's rules.

For further information concerning these reviews see the Commission's notice cited above and the Commission's rules of practice and procedure, part 201, subparts A through E (19 CFR part 201), and part 207, subparts A and F (19 CFR part 207).

Authority: These reviews are being conducted under authority of title VII of the Tariff Act of 1930; this notice is published pursuant to section 207.62 of the Commission's rules.

Issued: June 17, 2004.
By order of the Commission.
Marilyn R. Abbott,
Secretary to the Commission.

[FR Doc. 04-14159 Filed 6-21-04; 8:45 am]

BILLING CODE 7020-02-P